DEPARTMENT OF HEALTH AND HUMAN SERVICES

National Institutes of Health

Center for Scientific Review; Amended Notice of Meeting

Notice is hereby given of a change in the meeting of the Center for Scientific Review Special Emphasis Panel, June 30, 2010, 10 a.m. to July 1, 2010, 2 p.m., National Institutes of Health, 6701 Rockledge Drive, Bethesda, MD 20892 which was published in the Federal Register on June 10, 2010, 75 FR 32956-32957.

The meeting will be held July 21, 2010 to July 22, 2010. The meeting time and location remain the same. The meeting is closed to the public.

Dated: July 6, 2010.
Jennifer Spaeth,
Director, Office of Federal Advisory Committee Policy.

[FR Doc. 2010-16905 Filed 7-9-10; 8:45 am]

BILLING CODE 4140-01-P